DEPARTMENT OF ENERGY

Office of Science; Fusion Energy Sciences Advisory Committee

AGENCY: Department of Energy.

ACTION: Notice of open meeting.

SUMMARY: This notice announces a meeting of the Fusion Energy Sciences Advisory Committee. The Federal Advisory Committee Act (Pub. L. 92-463, 86 Stat.770) requires that public notice of these meetings be announced in the Federal Register.

DATES: Tuesday, October 23, 2007, 8:30 a.m. to 6:30 p.m. and Wednesday, October 24, 2007, 8:30 a.m. to noon.

ADDRESSES: The Gaithersburg Hilton, 620 Perry Parkway, Gaithersburg, Maryland, 20878.

FOR FURTHER INFORMATION CONTACT: Albert L. Opdenaker, Office of Fusion Energy Sciences; U.S. Department of Energy; 1000 Independence Avenue, SW.; Washington, DC 20585-1290; Telephone: 301-903-4927.

SUPPLEMENTARY INFORMATION: Purpose of the Meeting: The major purposes of the meeting are for the Fusion Energy Sciences Advisory Committee (FESAC) to complete its responses to the charges on (1) planning (Greenwald Panel), (2) the Fusion Simulation Project (Tang Panel), and (3) the scientific/programmatic review of the National Compact Stellarator Experiment (NCSE) (Hazeltine Panel). During the meeting, FESAC members will also hear a status report on the ITER Major Item of Equipment (MIE) Project, and discuss future approaches to strategic planning and possible future charges to FESAC.

Tentative Agenda

Tuesday, October 23, 2007

• Office Fusion Energy Sciences Perspective

• Report from the NCSX Science Review Panel/Discussion

• Report from the Panel on Strategic Planning/Discussion

• Report from the Panel on the Fusion Simulation Program/Discussion

• Public Comments

Wednesday, October 24, 2007

• Report on U.S. ITER MIE Project

• Recommendations to DOE on NCSX and Long Term Program Opportunities

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: The minutes of the meeting will be available on the U.S. Department of Energy's Office of Fusion Energy Sciences Web site (http://www.science.doe.gov/ofes/).

Issued at Washington, DC, on September 28, 2007.
Rachel M. Samuel,
Deputy Committee Management Officer.

[FR Doc. E7-19551 Filed 10-2-07; 8:45 am]

BILLING CODE 6450-01-P